DEPARTMENT OF AGRICULTURE

Farm Service Agency

President's Commission on Improving Economic Opportunity in Communities Dependent on Tobacco Production While Protecting Public Health

AGENCY: Farm Service Agency, USDA.

ACTION: Notice of Meeting.

SUMMARY: Executive Order No. 13168 published September 22, 2000, established the President's Commission on Improving Economic Opportunity in Communities Dependent on Tobacco Production While Protecting Public Health (Commission). This notice announces that the Commission will conduct a public meeting on May 4, 2001. The purpose of the meeting will be to finalize recommendations from tobacco, economic development, and health working groups in preparation of the Commission's Final Report.

DATES: The Commission will meet on May 4, 2001, from 11:30 a.m. to 1:30 p.m. at 2101 L Street, NW, Room 303A, Washington, DC. If special accommodations are required, please contact Doug Richardson, at the address specified below, by COB April 30, 2001. All times are Eastern Daylight Savings Time. All meetings are open to the public; however, seating is limited and available on a first-come basis.

FOR FURTHER INFORMATION CONTACT: Doug Richardson, Executive Director, Tobacco Commission, United States Department of Agriculture, (USDA), 1400 Independence Avenue, SW, STOP 0574, Washington, D.C., 20250-0574 or telephone (202) 418-4266 or toll free (866) 804-6698; FAX (202) 418-4270; Internet: tobcom@wdc.usda.gov.

SUPPLEMENTARY INFORMATION: The purpose of the Commission is to advise the President on changes occurring in the tobacco farming economy and recommend such measures as may be necessary to improve economic opportunity and development in communities that are dependent on tobacco production, while protecting consumers, particularly children, from hazards associated with smoking. The Commission collected and reviewed information about changes in the tobacco farming economy and Federal, State, and local initiatives intended to help tobacco growers, tobacco quota holders, and communities dependent on tobacco production pursue new economic opportunities. The Commission issued its Preliminary Report on January 26, 2001, with comments requested through March 8, 2001. Copies of the Preliminary Report are available on the Commission's website at http://www.fsa.usda.gov/tobcom/ or by contacting the Commission's office at the contact information listed above. All comments received through March 8, 2001, and up to the meeting on March 20, 2001, with respect to the Preliminary Report were reviewed by the Commission in its public meetings conducted on February 21, 2001, and March 20, 2001.

The Commission, in its March 20, 2001, meeting, also reviewed revised recommendations from two working groups representing the farm and economic development areas of the Commission. The health working group indicated that they had no new issues ready for discussion in the March 20, 2001, meeting. After this review, the Commission directed that each working group further revise their recommendations based on input received from the meeting and other recommendations to the Commission and prepare their final working group recommendations.

The purpose of the May 4, 2001, meeting is to review the final recommendations from the tobacco, economic development and health working groups in order to prepare the Final Report to the President.

Signed at Washington, D.C. on April 19, 2001.
James R. Little,
Acting Administrator, Farm Service Agency.

[FR Doc. 01-10079 Filed 4-19-01; 1:14 p.m.]

BILLING CODE 3410-05-P